SMALL BUSINESS ADMINISTRATION

National Women's Business Council; Notice of Public Meeting

In accordance with the Women's Business Ownership Act, Public Law 106-554 as amended, the National Women's Business Council (NWBC) would like to announce a forthcoming public Council Web cast, focusing on policy priorities of women entrepreneurs. The NWBC Web cast will broadcast on Tuesday, September 12, 2006, starting at 3 p.m. until 4 p.m., online at http:/client.uvault.com/nwbc/. No registration is required to participate online. To attend in person, the Web cast will take place at the George Washington University School of Business, 2201 G Street, NW., Duques Hall, Suite 660, Washington, DC 20052.

The purpose of this one-hour Web cast is to discuss public policies impacting women business owners and their enterprises. Decisions made in Congress have a profound impact on women-owned businesses everyday.

This event is open to the public and you must RSVP to attend. Anyone wishing to attend, please contact Katherine Stanley, no later than Friday, September 8, 2006, by e-mail Katherine.Stanley@sba.gov or telephone (202) 205-3850.

Sincerely,
Stephen Galvan,
Chief Operating Officer.

[FR Doc. E6-14362 Filed 8-29-06; 8:45 am]

BILLING CODE 8025-01-P